DEPARTMENT OF AGRICULTURE

Farm Service Agency

Request for an Extension of a Currently Approved Information Collection “ County Committee Elections

AGENCY: Farm Service Agency, USDA.

ACTION: Notice and request for comments.

SUMMARY: In accordance with the Paperwork Reduction Act of 1995, the Farm Service Agency (FSA) is seeking comments from all interested individuals and entities on the extension of a currently approved information collection used in support of the FSA County Committee Elections. The collection of information from FSA Farmers and Ranchers is used to receive nominations from eligible voters for the County Committee.

DATES: Comments on this notice must be received on or before May 16, 2005 to be assured consideration.

Additional Information: Comments concerning this notice should be addressed to: Kenneth Nagel, Agricultural Program Specialist, Office of the Deputy Administrator for Field Operations, Farm Service Agency, USDA, STOP 0542, 1400 Independence Avenue, SW., STOP 0542, Washington, DC 20250; telephone (202) 720-7890. Copies of the information collection may be obtained by contacting Kenneth Nagel.

SUPPLEMENTARY INFORMATION: Title: County Committee Election.

OMB Control Number: 0560-0229.

Expiration Date of Approval: September 30, 2005.

Type of Request: Extension of a Currently Approved Information Collection.

Abstract: The information collected under OMB Control Number is 0560-0229 is necessary to effectively allow farmer and ranchers to nominate potential candidates for the county committee election in accordance with the requirements at 7 CFR part 7. Specifically, the Agency uses the information annually or if needed through-out the year for special elections to create ballots for county committee elections.

Estimate of Respondent Burden: Public reporting burden for this collection of information is estimated to average 10 minutes per response.

Respondents: Any individual with farming interest in the Local Administrative Area (LAA). (eligible voters)

Estimated Number of Respondents: 2,100,000.

Estimated Number of Responses per Respondent: 1.

Estimated Total Annual Burden on Respondents: 350.

Topics for comment include but are not limited to the following: (a) Whether the collection of information is necessary for the proper performance of the functions of the agency, including whether information will have practical utility: (b) the accuracy of the agency's estimate of burden including the validity of the methodology and assumptions used; (c) ways to enhance the quality, utility and clarity of the information on those who are to respond, including through the use of appropriate automated, electronic, mechanical, or other technological collection techniques or other forms of information technology. Comments should be sent to the Desk Officer for Agriculture, Office of Information and Regulatory Affairs, Office of Management and Budget, Washington, D.C. 20503, and to Kenneth Nagel, Agricultural Program Specialist, Office of Deputy Administrator for Field Operations, Farm Service Agency, USDA, STOP 0542, 1400 Independence Ave., SW., Washington, DC 20250; telephone (202) 720-7890. Copies of the information collection may be obtained from Kenneth Nagel at the above address.

All responses to this notice will be summarized and included in the request for Office of management and Budget approval. All comments will be a matter of public record.

Signed in Washington, DC on March 8, 2005.
James R. Little,
Administrator, Farm Service Agency.

[FR Doc. 05-5154 Filed 3-15-05; 8:45 am]

BILLING CODE 3410-05-P